NUCLEAR REGULATORY COMMISSION

[Docket No. 72-8]

Notice of Issuance of Amendment to Materials License SNM-2505; Calvert Cliffs Nuclear Power Plant, Inc.; Calvert Cliffs Independent Spent Fuel Storage Installation

AGENCY: Nuclear Regulatory Commission.

ACTION: Notice of issuance of license amendment.

FOR FURTHER INFORMATION CONTACT: Joseph M. Sebrosky, Senior Project Manager, Spent Fuel Project Office, Office of Nuclear Material Safety and Safeguards, U.S. Nuclear Regulatory Commission, Washington, DC 20555. Telephone: (301) 415-1132; fax number: (301) 415-8555; e-mail: jms3@nrc.gov.

SUPPLEMENTARY INFORMATION:

I. Introduction

The U.S. Nuclear Regulatory Commission (NRC or the Commission) has issued Amendment 7 to Materials License SNM-2505 held by Calvert Cliffs Nuclear Power Plant, Inc. (CCNPP) for the receipt, possession, transfer, and storage of spent fuel at the Calvert Cliffs Independent Spent Fuel Storage Installation (ISFSI), located in Calvert County, Maryland. The amendment is effective as of the date of issuance.

II. Background

By application dated May 16, 2005, as supplemented on September 29, 2005, and October 28, 2005, CCNPP requested to amend its ISFSI license to incorporate changes to the updated safety analysis report to alter the design basis limit for the dry shielded canister (DSC) internal pressure from 50 psig to 100 psig.

III. Finding

This amendment complies with the standards and requirements of the Atomic Energy Act of 1954, as amended (the Act), and the Commission's rules and regulations. The Commission has made appropriate findings as required by the Act and the Commission's rules and regulations in 10 CFR Chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

Also in connection with this action, the Commission prepared an Environmental Assessment (EA) and Finding of No Significant Impact (FONSI). The EA and FONSI were published in the Federal Register on September 12, 2005 (70 FR 53812).

FOR FURTHER INFORMATION CONTACT: For further details with respect to this action, see the application dated May 16, 2005, available for public inspection at the Commission's Public Document Room (PDR), located at One White Flint North, Public File Area O-1F21, 11555 Rockville Pike (first floor) Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1 (800) 397-4209, 301-415-4737, or by e-mail to pdr@nrc.gov.

Dated at Rockville, Maryland, this 2nd day of November, 2005.
For the Nuclear Regulatory Commission.
Joseph M. Sebrosky,
Senior Project Manager, Licensing Section, Spent Fuel Project Office, Office of Nuclear Material Safety and Safeguards.

[FR Doc. 05-22431 Filed 11-9-05; 8:45 am]

BILLING CODE 7590-01-P